ENVIRONMENTAL PROTECTION AGENCY

40 CFR Part 52

[EPA-R06-OAR-2013-0400; FRL-9914-44-Region 6]

Approval and Promulgation of Implementation Plans; Texas; Control of Air Pollution From Nitrogen Compounds

AGENCY: Environmental Protection Agency (EPA).

ACTION: Final rule.

SUMMARY: The Environmental Protection Agency (EPA) is finalizing its proposal to approve revisions to the Texas State Implementation Plan (SIP) for the control of Air Pollution from Nitrogen Compounds. Specifically, we are approving three separate revisions that were submitted to EPA with letters dated April 13, 2012, May 8, 2013, and May 14, 2013, respectively. We are approving these three submittals in accordance with the federal Clean Air Act (the Act, CAA).

DATES: This rule will be effective on September 2, 2014.

ADDRESSES: The EPA has established a docket for this action under Docket ID No. EPA-R06-OAR-2013-0400. All documents in the docket are listed on the www.regulations.gov Web site. Although listed in the index, some information is not publicly available, e.g., Confidential Business Information or other information whose disclosure is restricted by statute. Certain other material, such as copyrighted material, is not placed on the Internet and will be publicly available only in hard copy form. Publicly available docket materials are available either electronically through www.regulations.gov or in hard copy at the Air Planning Section (6PD-L), Environmental Protection Agency, 1445 Ross Avenue, Suite 700, Dallas, Texas 75202-2733. The file will be made available by appointment for public inspection in the Region 6 FOIA Review Room between the hours of 8:30 a.m. and 4:30 p.m. weekdays except for legal holidays. Contact the person listed in the FOR FURTHER INFORMATION CONTACT paragraph below to make an appointment.

FOR FURTHER INFORMATION CONTACT: Mr. Alan Shar (6PD-L), telephone (214) 665-2164, email shar.alan@epa.gov.

SUPPLEMENTARY INFORMATION: Throughout this document “we,” “us,” and “our” refer to EPA.

Outline

I. Background

II. Public Comments

III. Submittals

A. The April 6, 2012 Submittal

B. The May 8, 2013 Submittal

C. The May 14, 2013 Submittal

IV. Final Actions

V. Statutory and Executive Order Reviews

I. Background

On May 23, 2014 (79 FR 29726) we proposed to approve revisions to the Texas SIP that the TCEQ submitted to EPA with three separate letters dated April 6, 2012, May 8, 2013, and May 14, 2013. Details of these three submittals were explained in our proposal, and its corresponding Technical Support Document. A summary of each submittal is described in section III.

II. Public Comments

The public comment period for the May 23, 2013 (79 FR 29726) proposal expired on June 23, 2014, and we did not receive any comments on the proposed action during this period. Therefore, we are approving the May 23, 2013 (79 FR 29726) proposal without changes into the Texas SIP.

III. Submittals

A. The April 6, 2012 Submittal

The April 6, 2012 submittal concerns revisions to 30 TAC, Chapter 117 Control of Air Pollution from Nitrogen Compounds. The revisions to 30 TAC Chapter 117 remove references to the term “system cap trading” for utility electric generation sources operating in major ozone nonattainment areas and the East and Central Texas Counties. The revisions concern sections 117.1020, 117.1120, 117.1220, 117.3020, and 117.9800. The intended effect of this removal is that the April 13, 2012, revisions to 30 TAC Chapter 117 and their corresponding provisions of 30 TAC Chapter 101 will become consistent. The revision is administrative in nature. Therefore, we are approving the April 6, 2012 revisions to 30 TAC, Chapter 117 into the Texas SIP.

B. The May 8, 2013 Submittal

The TCEQ submitted revisions to the 30 TAC Chapter 117, Subchapter D, Division 2, Dallas Fort Worth (DFW) Eight-Hour Ozone Nonattainment Area, Minor Sources. The submittal will exempt stationary diesel engines (drawworks engine) that are used exclusively for product testing and personnel training, operate less than 1,000 hours per year on a rolling 12-month basis, and meet applicable EPA's emission standards for non-road engines listed in 40 CFR 89.112(a), Table 1 (October 23, 1998) in effect at the time of installation, modification, reconstruction, or relocation. The drawworks engine is used for lifting and lowering casing into the test well at this plant. The test well is not associated with the actual oil or gas production operations. The revisions specifically concern sections 117.2103, 117.2130, 117.2135, and 117.2145. The TCEQ submitted an 110(l) analysis with its submittal showing why expansion of this partial exemption, in itself, does not adversely impact the status of Texas' progress towards attainment of the 1997 eight-hour ozone standard, will not interfere with control measures, and will not prevent reasonable further progress toward attainment of the ozone standard. We found their 110(l) analysis adequate. Therefore, we are approving the May 8, 2013 revisions to 30 TAC, Chapter 117 into the Texas SIP.

C. The May 14, 2013 Submittal

The May 14, 2013, revisions to the 30 TAC Chapter 117 update references to Electric Reliability Council of Texas, Incorporated (ERCOT) definition of “emergency situation” and its new Emergency Response Services program. The revision to the definition of “emergency situation” in section 117.10(15) will make the 30 TAC Chapter 117 definitions of “emergency situation” consistent with the ERCOT's Nodal Protocols Section 2 (Definitions and Acronyms) of June 1, 2012. The changes made by ERCOT are intended to promote electric power reliability during energy emergencies by allowing operation of generators for the purpose of selling power to the electric grid under limited circumstances.

The adopted amendment does not increase the number of sources that could qualify for exemption under the Chapter 117 rules, or increase the frequency or duration of the operation during an emergency situation as compared to the approved SIP. Therefore, the revision is consistent with section 110(l) of the Act, and we are approving the May 14, 2013 revisions to 30 TAC, Chapter 117 into the Texas SIP.

IV. Final Actions

Today, we are approving revisions to 30 TAC, Chapter 117 sections 117.1020, 117.1120, 117.1220, 117.3020, and 117.9800. We are approving revisions to 30 TAC, Chapter 117 sections 117.2103, 117.2130, 117.2135, and 117.2145. We are also approving revisions to 30 TAC, Chapter 117 section 117.10(15). The EPA is approving these revisions in accordance with sections 110 and 172(c) of the federal CAA and as being consistent with the EPA's guidance.

V. Statutory and Executive Order Reviews

Under the Clean Air Act, the Administrator is required to approve a SIP submission that complies with the provisions of the Act and applicable Federal regulations. If a portion of the plan revision meets all the applicable requirements of this chapter and Federal regulations, the Administrator may approve the plan revision in part. 42 U.S.C. 7410(k); 40 CFR 52.02(a). Thus, in reviewing SIP submissions, EPA's role is to approve state choices that meet the criteria of the Act, and to disapprove state choices that do not meet the criteria of the Act. Accordingly, this action approves state law as meeting Federal requirements and does not impose additional requirements beyond those imposed by state law. For that reason, this action:

• Is not a “significant regulatory action” subject to review by the Office of Management and Budget under Executive Order 12866 (58 FR 51735, October 4, 1993);

• does not impose an information collection burden under the provisions of the Paperwork Reduction Act (44 U.S.C. 3501 et seq.);

• is certified as not having a significant economic impact on a substantial number of small entities under the Regulatory Flexibility Act (5 U.S.C. 601 et seq.);

• does not contain any unfunded mandate or significantly or uniquely affect small governments, as described in the Unfunded Mandates Reform Act of 1995 (Pub. L. 104-4);

• does not have Federalism implications as specified in Executive Order 13132 (64 FR 43255, August 10, 1999);

• is not an economically significant regulatory action based on health or safety risks subject to Executive Order 13045 (62 FR 19885, April 23, 1997);

• is not a significant regulatory action subject to Executive Order 13211 (66 FR 28355, May 22, 2001);

• is not subject to requirements of section 12(d) of the National Technology Transfer and Advancement Act of 1995 (15 U.S.C. 272 note) because application of those requirements would be inconsistent with the Clean Air Act;

• does not provide EPA with the discretionary authority to address, as appropriate, disproportionate human health or environmental effects, using practicable and legally permissible methods, under Executive Order 12898 (59 FR 7629, February 16, 1994); and

• this rule does not have tribal implications as specified by Executive Order 13175 (65 FR 67249, November 9, 2000), because the SIP is not approved to apply in Indian country located in the state, and EPA notes that it will not impose substantial direct costs on tribal governments or preempt tribal law.

Authority: 42 U.S.C. 7401 et seq.

List of Subjects in 40 CFR Part 52

Environmental protection, Air pollution control, Hydrocarbons, Incorporation by reference, Intergovernmental relations, Reporting and recordkeeping requirements, Volatile organic compounds.

Dated: July 18, 2014.
Samuel Coleman,
Acting Regional Administrator, Region 6.

Part 52, chapter I, title 40 of the Code of Federal Regulations is amended as follows:

PART 52—APPROVAL AND PROMULGATION OF IMPLEMENTATION PLANS

1. The authority citation for part 52 continues to read as follows:

Authority: 42 U.S.C. 7401 et seq.

Subpart SS—Texas

2. In § 52.2270, in paragraph (c), the table titled “EPA Approved Regulations in the Texas SIP” is amended by revising the entries for sections 117.10 under “Subchapter A”; 117.1020 under “Subchapter C, Division 1”; 117.1120 under “Subchapter C, Division 2”; 117.1220 under “Subchapter C, Division 3”; 117.2103, 117.2130, 117.2135, and 117.2145 under “Subchapter D, Division 2”; 117.3020 under “Subchapter E, Division 1”; and, 117.9800 under “Subchapter H, Division 2” to read as follows:

§ 52.2270 Identification of plan.

* * * * *

(c) * * *

Epa Approved Regulations In The Texas Sip
State citation | Title/subject | State approval/submittal date | EPA approval date | Explanation
| * * * * * * *
Chapter 117—Control of Air Pollution From Nitrogen Compounds
Subchapter A—Definitions
Section 117.10 | Definitions | 5/14/2013 | 7/31/2014 [Insert Federal Register citation] | “Emergency situation”.
| * * * * * * *
Subchapter C—Combustion Control at Major Utility Electric Generation Sources in Ozone Nonattainment Areas
Division 1—Beaumont-Port Arthur Ozone Nonattainment Area Utility Electric Generation Sources
| * * * * * * *
Section 117.1020 | System Cap | 4/6/2012 | 7/31/2014 [Insert Federal Register citation] |
| * * * * * * *
Division 2—Dallas-Fort Worth Ozone Nonattainment Area Utility Electric Generation Sources
| * * * * * * *
Section117. 1120 | System Cap | 4/6/2012 | 7/31/2014 [Insert Federal Register citation] |
| * * * * * * *
Division 3—Houston-Galveston-Brazoria Ozone Nonattainment Area Utility Electric Generation Sources
| * * * * * * *
Section 117.1220 | System Cap | 4/6/2012 | 7/31/2014 [Insert Federal Register citation] |
| * * * * * * *
Subchapter D—Combustion Control at Minor Sources in Ozone Nonattainment Areas
| * * * * * * *
Division 2—Dallas-Fort Worth Eight-Hour Ozone Nonattainment Area Minor Sources
| * * * * * * *
Section 117.2103 | Exemptions | 5/8/2013 | 7/31/2014 [Insert Federal Register citation] |
| * * * * * * *
Section 117.2130 | Operating Requirements | 5/8/2013 | 7/31/2014 [Insert Federal Register citation] |
Section 117.2135 | Monitoring, Notification, and Testing Requirements | 5/8/2013 | 7/31/2014 [Insert Federal Register citation] |
Section 117.2145 | Recordkeeping and Reporting Requirements | 5/8/2013 | 7/31/2014 [Insert Federal Register citation] |
Subchapter E—Multi-Region Combustion Control
Division 1—Utility Electric Generation in East and Central Texas
| * * * * * * *
Section 117.3020 | System Cap | 4/6/2012 | 7/31/2014 [Insert Federal Register citation] |
| * * * * * * *
Subchapter H—Administrative Provisions
* * * * * * *
Division 2—Compliance Flexibility
Section 117.9800 | Use of Emission Credits for Compliance | 4/6/2012 | 7/31/2014 [Insert Federal Register citation] |
* * * * * * *

* * * * *

[FR Doc. 2014-17875 Filed 7-30-14; 8:45 am]

BILLING CODE 6560-50-P